DEPARTMENT OF HEALTH AND HUMAN SERVICES

Centers for Medicare & Medicaid Services

[CMS-7031-NC3]

Proposed Establishment of a Federally Funded Research and Development Center—Third Notice

AGENCY: Centers for Medicare & Medicaid Services (CMS), Department of Health & Human Services (DHHS).

ACTION: Notice.

SUMMARY: This notice announces our intention to sponsor Federally Funded Research and Development Center (FFRDC) to facilitate the modernization of business processes and supporting systems and their operations. This is the third of three notices which must be published over a 90-day period in order to advise the public of the agency's intention to sponsor an FFRDC.

DATES: We must receive comments on or before July 5, 2011.

ADDRESSES: Comments on this notice must be mailed to the Centers for Medicare & Medicaid Services, Candice Savoy, Contracting Officer, 7500 Security Boulevard, Mailstop C2-01-10, Baltimore, MD 21244 or e-mail at Candice.Savoy@cms.hhs.gov.

FOR FURTHER INFORMATION CONTACT: Candice Savoy, (410) 786-7494 or Candice.Savoy@cms.hhs.gov.

SUPPLEMENTARY INFORMATION: The Centers for Medicare & Medicaid Services (CMS), an operating division within the Department of Health and Human Services (DHHS), intends to sponsor a Federally Funded Research and Development Center (FFRDC) to facilitate the modernization of business processes and supporting systems and their operations. Some of the broad task areas that will be utilized include strategic/tactical planning, conceptual planning, design and engineering, procurement assistance, organizational planning, research and development, continuous process improvement, Independent Verification and Validation (IV&V)/compliance, and security planning. Further analysis will consist of expert advice and guidance in the areas of program and project management focused on increasing the effectiveness and efficiency of strategic information management, prototyping, demonstrations, and technical activities. The FFRDC may also be utilized by non-sponsors, within DHHS.

The FFRDC will be established under the Federal Acquisition Regulations (48 CFR 35.017).

The FFRDC will be available to provide a wide range of support including, but not limited to:

• Strategic/tactical planning including assisting with planning for future CMS program policy, innovation, development, and support for Medicare and Medicaid.

• Conceptual planning including operations, analysis, requirements, procedures, and analytic support.

• Design and engineering including technical architecture direction.

• Procurement assistance, review/recommendations for current contract processes to include, contract reform, technical guidance, price and cost estimating, and source selection evaluation support.

• Organizational planning including functional and gap analysis.

• Research and development, assessment of new technologies and advice on medical and technical innovation and health information.

• Continuous process improvement, Investment Life Cycle (ILC)/current practices review and recommendations, implementation of best practices and code reviews.

• IV&V/Compliance, DUA surveillance and Web site content review.

• Security including Security Assessments and Security Test and Evaluations (ST&E). Identify, define, and resolve problems as an integral part of the sponsor's management team.

• Providing independent analysis about DHHS vulnerabilities and the effectiveness of systems deployed to make DHHS more effective in providing healthcare services and implementation of new healthcare initiatives.

• Providing intra-departmental and inter-agency cross-cutting, risk-informed analysis of alternative resource approaches.

• Developing and deploying analytical tools and techniques to evaluate system alternatives (for example, policy-operations-technology tradeoffs), and life-cycle costs that have broad application across CMS.

• Developing measurable performance metrics, models, and simulations for determining progress in securing DHHS data or other authorized data sources, (non-DHHS data sources, such as the census data or Department of Labor data, Veterans Administration, Department of Defense, data in developing performance metrics, and models).

• Providing independent and objective operational test and evaluation analysis support.

• Developing recommendations for guidance on the best practices for standards, particularly to improve the inter-operability of DHHS components.

• Assessing technologies and evaluating technology test-beds for accurate simulation of operational conditions and delivery system innovation models.

• Supporting critical thinking about the DHHS enterprise, business intelligence and analytic tools that can be applied consistently across DHHS and CMS programs.

• Supporting systems integration, data management, and data exchange that contribute to a larger DHHS intra and inter-agency enterprise as well as collaboration with States, local tribal governments, the business sector (for-profit and not-for-profits), academia and the public.

• Providing recommendations for standards for top-level DHHS systems requirements and performance metrics best practices for an integrated DHHS approach to systems solutions and structured and unstructured data architecture.

• Understanding key DHHS organizations and their specific role and major acquisition requirements and support them in the requirements development phase of the acquisition lifecycle.

• The FFRDC must function so effectively as to act as an agent for the sponsor in the design and pursuit of mission goals.

• The FFRDC must provide rapid responsiveness to changing requirements for personnel in all aspects of strategic, technical and program management.

• The FFRDC must recognize government objectives as its own objectives, partnering with the sponsor in pursuit of excellence in public service.

• The FFRDC must allow for non-sponsor (other than CMS) work for operating Divisions within DHHS.

We are publishing this notice in accordance with 48 CFR 5.205(b) of the FAR, to enable interested members of the public to provide comments on this proposed action. We note that this is the third of three notices issued under the FAR.

The Request for Proposal will be posted on FedBizOpps in the Summer of 2011. Alternatively, a copy can be received by contacting the person listed in the “FOR FURTHER INFORMATION CONTACT” section above.

Dated: June 8, 2011.
Donald M. Berwick,
Administrator, Centers for Medicare & Medicaid Services.

[FR Doc. 2011-14706 Filed 6-13-11; 8:45 am]

BILLING CODE 4120-01-P